DEPARTMENT OF THE INTERIOR

Bureau of Land Management

[WY-957-02-1420-BJ]

Notice of Filing of Plats of Survey, Wyoming

AGENCY: Bureau of Land Management, Interior.

SUMMARY: The Bureau of Land Management (BLM) has filed the plats of survey of the lands described below in the BLM Wyoming State Office, Cheyenne, Wyoming, on dates that they were accepted.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat representing the dependent resurvey of a portion of the north boundary, a portion of the subdivisional lines, and the subdivision of certain sections, Township 43 North, Range 108 West, Sixth Principal Meridian, Wyoming, was accepted December 5, 2003.

The plat representing the dependent resurvey of a portion of the subdivisional lines, and the subdivision of section 20, Township 20 North, Range 105 West, Sixth Principal Meridian, Wyoming, was accepted January 29, 2004.

The plat representing the corrective dependent resurvey of a portion of the subdivisional lines, Township 18 North, Range 85 West, Sixth Principal Meridian, Wyoming, was accepted March 12, 2004.

The supplemental plat showing a subdivision of the original lot 3, section 7, Township 33 North, Range 109 West, Sixth Principal Meridian, Wyoming, is based on the original survey approved June 25, 1894, and on a survey by Skylar Wilson, Wyoming Registered Land Surveyor No. 4274, shown on Record of Survey No. 299904, recorded in the Sublette County Clerk's Office, September 26, 2003 in Book 76 Misc., Page 197, was accepted February 20, 2004.

The supplemental plat showing the corrected lotting and acreage, section 1, Township 44 North, Range 74 West, Sixth Principal Meridian, Wyoming, is based on the survey approved March 3, 1997, was accepted March 12, 2004.

The supplemental plat showing the corrected lotting and acreage, section 5, Township 47 North, Range 76 West, Sixth Principal Meridian, Wyoming, is based on the survey approved August 17, 1995, was accepted March 12, 2004.

The supplemental plat showing the corrected lotting and acreage, section 4, Township 45 North, Range 77 West, Sixth Principal Meridian, Wyoming, is based on the survey approved August 17, 1995, was accepted April 9, 2004.

Copies of the preceding described plats are available to the public.

Dated: May 12, 2004.
John P. Lee,
Chief Cadastral Surveyor, Division of Support Services.

[FR Doc. 04-11197 Filed 5-17-04; 8:45 am]

BILLING CODE 4310-22-P